DEPARTMENT OF TRANSPORTATION

Federal Aviation Administration

Seventh Meeting: RTCA Special Committee (231) Terrain Awareness Warning Systems (TAWS)

AGENCY: Federal Aviation Administration (FAA), U.S. Department of Transportation (DOT).

ACTION: Notice of Seventh RTCA Special Committee 231 Meeting.

SUMMARY: The FAA is issuing this notice to advise the public of the seventh RTCA Special Committee 231 meeting.

DATES: The meeting will be held December 8th-10th from 9:00 a.m.-5:00 p.m.

ADDRESSES: The meeting will be held at RTCA, Inc., 1150 18th Street NW., Suite 450, Washington, DC, 20036, Tel: (202) 330-0654.

FOR FURTHER INFORMATION CONTACT: The RTCA Secretariat, 1150 18th Street NW., Suite 910, Washington, DC 20036, or by telephone at (202) 833-9339, fax at (202) 833-9434, or Web site at http://www.rtca.org or Hal Moses, Program Director, RTCA, Inc., hmoses@rtca.org, (202) 330-0654.

SUPPLEMENTARY INFORMATION: Pursuant to section 10(a)(2) of the Federal Advisory Committee Act (Pub. L. 92-463, 5 U.S.C., App.), notice is hereby given for a meeting of RTCA Special Committee 231. The agenda will include the following:

Tuesday, December 8, 2015

1. Welcome/Introduction

2. Administrative Remarks

3. Agenda Review

4. Summary of Working Group activities

5. Other Business

6. Date and Place of Next Meeting

Wednesday, December 9, 2015

1. Continuation of Plenary or Working Group Session

Thursday, December 10, 2015

1. Continuation of Plenary or Working Group Session

Attendance is open to the interested public but limited to space availability. With the approval of the chairman, members of the public may present oral statements at the meeting. Plenary information will be provided upon request. Persons wishing to present statements or obtain information should contact the person listed in the FOR FURTHER INFORMATION CONTACT section. Members of the public may present a written statement to the committee at any time.

Issued in Washington, DC, on October 16, 2015.
Latasha Robinson,
Management & Program Analyst, Next Generation, Enterprise Support Services Division, Federal Aviation Administration.

[FR Doc. 2015-26864 Filed 10-21-15; 8:45 am]

BILLING CODE 4910-13-P